ENVIRONMENTAL PROTECTION AGENCY

40 CFR Parts 52 and 81

[NV 050-0073B; FRL-7595-4]

Approval and Promulgation of Implementation Plans; State of Nevada; Designation of Areas for Air Quality Planning Purposes; Lake Tahoe Nevada Area

AGENCY: Environmental Protection Agency (EPA).

ACTION: Proposed rule.

SUMMARY: On October 27, 2003, the State of Nevada requested EPA to redesignate the Lake Tahoe Nevada “not classified” carbon monoxide (CO) nonattainment area to attainment for the CO National Ambient Air Quality Standards (NAAQS) and submitted a CO maintenance plan for the area as a revision to the Nevada State Implementation Plan (SIP). In this action, EPA is proposing to approve the redesignation request and the maintenance plan. EPA is also proposing to find that the maintenance plan is adequate for conformity purposes under the limited maintenance plan policy. In the “Rules and Regulations” section of this Federal Register, EPA is approving the State's redesignation request and SIP revision, involving the maintenance plan, as a direct final rule without prior proposal because the Agency views the redesignation and SIP revision as noncontroversial and anticipates no adverse comments. A detailed rationale for the approval is set forth in the direct final rule. If no adverse comments are received in response to this proposed rule, no further activity is contemplated in relation to this rule. If EPA receives adverse comments, the direct final rule will be withdrawn and all public comments received will be addressed in a subsequent final rule based on this proposed rule. EPA will not institute a second comment period on this action. Any parties interested in commenting on this action should do so at this time.

DATES: Comments on this proposed rule must be received in writing by January 14, 2004.

ADDRESSES: Please address your comments to Eleanor Kaplan, Air Planning Office (AIR-2), U.S. Environmental Protection Agency, Region IX, 75 Hawthorne Street, San Francisco, CA 94105-3901 or e-mail to kaplan.eleanor@epa.gov, or submit comments at http://www.regulations.gov. A copy of the State's submittal is available for public inspection during normal business hours at EPA's Region IX office. Please contact Eleanor Kaplan if you wish to schedule a visit. A copy of the submittal is also available at the Nevada Department of Conservation and Natural Resources, Division of Environmental Protection, 333 West Nye Lane, Carson City, Nevada 89706.

FOR FURTHER INFORMATION CONTACT: Eleanor Kaplan, EPA Region IX at (415) 947-4147 or kaplan.eleanor@epa.gov.

SUPPLEMENTARY INFORMATION: For further information see the direct final rule, of the same day, published in the “Rules and Regulations” section of this Federal Register.

Dated: November 20, 2003.
Laura Yoshii,
Acting Regional Administrator, Region IX.

[FR Doc. 03-30370 Filed 12-12-03; 8:45 am]

BILLING CODE 6560-50-P